JUDICIAL CONFERENCE OF THE UNITED STATES

Meeting of the Judicial Conference; Committee on Rules of Practice and Procedure

AGENCY: Committee on Rules of Practice and Procedure, Judicial Conference of the United States.

ACTION: Notice of open meeting.

SUMMARY: The Committee on Rules of Practice and Procedure will hold a meeting on June 6, 2016, which will continue the morning of June 7, 2016, if necessary. The meeting will be open to public observation but not participation. An agenda and supporting materials will be posted at least 7 days in advance of the meeting at: http://www.uscourts.gov/rules-policies/records-and-archives-rules-committees/agenda-books.

DATES: June 6-7, 2016.

Time: 8:30 a.m. to 5:00 p.m.

ADDRESSES: Thurgood Marshall Federal Judiciary Building, Mecham Conference Center, One Columbus Circle NE., Washington, DC 20544.

FOR FURTHER INFORMATION CONTACT: Rebecca A. Womeldorf, Rules Committee Secretary, Rules Committee Support Office, Administrative Office of the United States Courts, Washington, DC 20544, telephone (202) 502-1820.

Dated: May 6, 2016.
Rebecca A. Womeldorf,
Rules Committee Secretary.

[FR Doc. 2016-11140 Filed 5-11-16; 8:45 am]

BILLING CODE 2210-55-P